NATIONAL INDIAN GAMING COMMISSION

Information Collection; Comment Request

AGENCY: National Indian Gaming Commission.

ACTION: Notice.

SUMMARY: The National Indian Gaming Commission (NIGC), in accordance with the Paperwork Reduction Act of 1995, is submitting to the Office of Management and Budget (OMB) a request to review and extend approval for the information collection activity associated with the issuance of a certificate of self-regulation for class II gaming to Indian tribes conducting gaming under the Indian Gaming Regulatory Act. The OMB will consider comments from the public on this information collection activity.

DATES AND ADDRESSES: Comments regarding the NIGC's evaluation of the information collection activity and its request to OMB to extend approval for the information collection must be received by October 15, 2001. When providing comment, a respondent should specify the particular collection activity to which the comment pertains. Send comments to: Office of Information and Regulatory Affairs (Attn: Desk Officer for the National Indian Gaming Commission), Office of Management and Budget, 725 17th Street NW., Washington, DC 20503. The NIGC regulation to which the information collection pertains is available on the NIGC website, www.nigc.gov. The regulation is also available by written request to the NIGC (Attn: Ms. Cindy Altimus), 1441 L Street NW., Suite 9100, Washington, DC, 20005, or by telephone request at (202) 632-7003. This is not a toll-free number. All other requests for information should be submitted to Ms. Altimus at the above address for the NIGC.

SUPPLEMENTARY INFORMATION: Title: Issuance of Certificates of Self Regulation to Tribes for Class II Gaming.

OMB Number: 3141-0008.

Abstract: The Indian Gaming Regulatory Act, 25 U.S.C. 2701 et seq., allows any Indian tribe that has conducted class II gaming for at least three years to petition the NIGC for a certificate of self-regulation for its class II gaming operations. The NIGC will issue the certificate if it determines from available information that the tribe has conducted its gaming activity in a manner which has resulted in an effective and honest accounting of all revenues, a reputation for safe, fair, and honest operation of the activity, and an enterprise free of evidence of criminal or dishonest activity. The tribe must also have adopted and implemented proper accounting, licensing, and enforcement systems and conducted the gaming operation on a fiscally or economically sound basis. The implementing regulation of the NIGC, 25 CFR part 518, requires a tribe interested in receiving the certificate to file a petition with the NIGC describing the tribe's gaming operations, its regulatory process, its tribal revenue allocation plan, and its accounting and record keeping systems for the gaming operation. The tribe must also provide copies of various documents in support of the petition. Submission of the petition and supporting documentation is voluntary. The NIGC will use the information submitted by the respondent tribe in making a determination on whether to issue the certificate of self-regulation.

Respondents: Indian tribes conducting class II gaming.

Estimated Number of Potential Respondents: 200.

Estimated Annual Voluntary of Responses: 5.

Estimated Annual Burden Per Voluntary Respondent: 130.

Estimated Total Annual Burden on Voluntary Respondents: 650.

Jacqueline Agtuca,
Chief of Staff.

[FR Doc. 01-22401 Filed 9-7-01; 8:45 am]

BILLING CODE 7565-01-M